SMALL BUSINESS ADMINISTRATION

[Disaster Declaration #21108 and #21109; MISSOURI Disaster Number MO-20016]

Presidential Declaration Amendment of a Major Disaster for Public Assistance Only for the State of Missouri

AGENCY: U.S. Small Business Administration.

ACTION: Amendment 2.

SUMMARY: This is an amendment of the Presidential declaration of a major disaster for Public Assistance Only for the State of Missouri (FEMA-4867-DR), dated May 21, 2025.

Incident: Severe Storms, Straight-line Winds, Tornadoes, and Wildfires.

DATES: Issued on June 24, 2025.

Incident Period: March 14, 2025, through March 15, 2025.

Physical Loan Application Deadline Date: July 22, 2025.

Economic Injury (EIDL) Loan Application Deadline Date: February 23, 2026.

ADDRESSES: Visit the MySBA Loan Portal at https://lending.sba.gov to apply for a disaster assistance loan.

FOR FURTHER INFORMATION CONTACT: Sharon Henderson, Office of Disaster Recovery & Resilience, U.S. Small Business Administration, 409 3rd Street SW, Suite 6050, Washington, DC 20416, (202) 205-6734.

SUPPLEMENTARY INFORMATION: The notice of the President's major disaster declaration for Private Non-Profit organizations in the State of Missouri, dated May 21, 2025, is hereby amended to include the following areas as adversely affected by the disaster.

Primary Counties: Camden.

All other information in the original declaration remains unchanged.

(Catalog of Federal Domestic Assistance Number 59008)

James Stallings,
Associate Administrator, Office of Disaster Recovery & Resilience.

[FR Doc. 2025-11916 Filed 6-26-25; 8:45 am]

BILLING CODE 8026-09-P